NUCLEAR REGULATORY COMMISSION

[NRC-2020-0025]

Biweekly Notice; Applications and Amendments to Facility Operating Licenses and Combined Licenses Involving No Significant Hazards Considerations

AGENCY: Nuclear Regulatory Commission.

ACTION: Biweekly notice.

SUMMARY: Pursuant to section 189.a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person. This biweekly notice includes all amendments issued, or proposed to be issued, from December 31, 2019, to January 13, 2020. The last biweekly notice was published on January 14, 2020.

DATES: Comments must be filed by February 27, 2020. A request for a hearing or petitions for leave to intervene must be filed by March 30, 2020.

ADDRESSES: You may submit comments by any of the following methods:

• Federal Rulemaking Website: Go to https://www.regulations.gov and search for Docket ID NRC-2020-0025. Address questions about NRC Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, 301-415-1506, email: kay.goldstein@nrc.gov, U.S. Nuclear Regulatory Commission, Washington, DC 20555-0001.

SUPPLEMENTARY INFORMATION:

I. Obtaining Information and Submitting Comments

A. Obtaining Information

Please refer to Docket ID NRC-2020-0025, when contacting the NRC about the availability of information for this action. You may obtain publicly-available information related to this action by any of the following methods:

• Federal Rulemaking Website: Go to https://www.regulations.gov and search for Docket ID NRC-2020-0025.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2020-0025, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensee's analyses provided, consistent with title 10 of the Code of Federal Regulations (10 CFR) Section 50.91 is sufficient to support the proposed determination that these amendment requests involve No Significant Hazards Consideration (NSHC). Under the Commission's regulations in 10 CFR 50.92, operation of the facility in accordance with the proposed amendment would not (1) involve a significant increase in the probability or consequences of an accident previously evaluated, or (2) create the possibility of a new or different kind of accident from any accident previously evaluated, or (3) involve a significant reduction in a margin of safety.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves NSHC. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final NSHC determination, any hearing will take place after issuance. The Commission expects that the need to take action on an amendment before 60 days have elapsed will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (First Floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensee's proposed NSHC determination. For further details with respect to these license amendment applications, see the application for amendment which is available for public inspection in ADAMS and at the NRC's PDR. For additional direction on accessing information related to this document, see the “Obtaining Information and Submitting Comments” section of this document.

Duke Energy Progress, LLC; Shearon Harris Nuclear Power Plant, Unit 1; Brunswick County, NC
Application Date | November 8, 2019.
ADAMS Accession No. | ML19312C931.
Location in Application of NSHC | Page 98 of Enclosure.
Brief Description of Amendments | The proposed amendment would modify Technical Specification (TS) requirements to allow extension of the Type A test interval from 10 years to 15-years for Type A, Type B, and Type C leakage rate tests, and an extension of the Type C test interval up to 75-months, based on acceptable performance history as defined in Nuclear Energy Institute's NEI 94-01, Revision 3-A, “Industry Guideline for Implementing Performance-Based Option of 10 CFR Part 50, Appendix J” (ADAMS Accession No. ML12221A202). The license amendment request also proposes to adopt 10 CFR Part 50, Appendix J, Option B, as modified by approved exemptions, for the performance-based testing of Type B and C tested components and the use of American National Standards Institute/American Nuclear Society (ANSI/ANS) 56.8-2002, “Containment System Leakage Testing Requirements.”
Proposed Determination | NSHC.
Name of Attorney for Licensee, Mailing Address | David Cummings, Associate General Counsel, Mail Code DEC45, 550 South Tryon Street, Charlotte NC 28202.
Docket Nos. | 50-400.
NRC Project Manager, Telephone Number | Tanya Hood, 301-415-1387.
Exelon Generation Company, LLC; Braidwood Station, Units 1 and 2; Will County, IL, Exelon Generation Company, LLC; Byron Station, Unit Nos. 1 and 2; Ogle County, IL, Exelon Generation Company, LLC; Calvert Cliffs Nuclear Power Plant, Units 1 and 2; Calvert County, MD
Application Date | December 9, 2019.
ADAMS Accession No. | ML19343C678.
Location in Application of NSHC | Pages 2-3 of Attachment 1.
Brief Description of Amendments | The proposed amendments would adopt Technical Specifications Task Force (TSTF) Traveler TSTF-569, “Revise Response Time Testing Definition.” Specifically, the proposed amendments revise the technical specification definitions for engineered safety feature (ESF) response time and reactor trip system response time for Braidwood and Byron Stations and also revise ESF response time and reactor protective system response time for Calvert Cliffs Nuclear Power Plant.
Proposed Determination | NSHC.
Name of Attorney for Licensee, Mailing Address | Tamra Domeyer, Associate General Counsel, Exelon Generation Company, LLC, 4300 Winfield Road, Warrenville, IL 60555.
Docket Nos. | 50-456, 50-457, 50-454, 50-455, 50-317, 50-318.
NRC Project Manager, Telephone Number | Joel Wiebe, 301-415-6606.
Exelon FitzPatrick, LLC and Exelon Generation Company, LLC; James A. FitzPatrick Nuclear Power Plant, LLC; Oswego County, NY
Application Date | September 5, 2019, as supplemented November 6, 2019.
ADAMS Accession No. | ML19248B085, ML19310D579.
Location in Application of NSHC | Pages 4, 5, and 6 of Attachment 1 to September 5, 2019 document.
Brief Description of Amendments | The proposed amendment would revise the allowable value for reactor water cleanup system primary containment isolation.
Proposed Determination | NSHC.
Name of Attorney for Licensee, Mailing Address | Donald P. Ferraro, Assistant General Counsel, Exelon Generation Company, LLC, 200 Exelon Way, Suite 305, Kennett Square, PA 19348.
Docket Nos. | 50-333.
NRC Project Manager, Telephone Number | Samson Lee, 301-415-3168.
Exelon Generation Company, LLC; Three Mile Island Nuclear Station, Unit 1; Dauphin County, PA
Application Date | October 31, 2019.
ADAMS Accession No. | ML19305A889.
Location in Application of NSHC | Pages 4 and 5 of Attachment 1.
Brief Description of Amendments | The proposed amendment would remove the existing Cyber Security Plan (CSP) requirements contained in License Condition 2.c.(3) of the Three Mile Island Nuclear Station, Unit 1 (TMI-1) Renewed Facility License. This change is requested to support the decommissioning of TMl-1.
Proposed Determination | NSHC.
Name of Attorney for Licensee, Mailing Address | Tamra Domeyer, Associate General Counsel, Exelon Generation Company, LLC, 4300 Winfield Road, Warrenville, IL 60555.
Docket Nos. | 50-289.
NRC Project Manager, Telephone Number | Justin Poole, 301-415-2048.
FirstEnergy Nuclear Operating Company; Davis-Besse Nuclear Power Station, Unit 1; Ottawa County, OH
Application Date | November 14, 2019.
ADAMS Accession No. | ML19318F668.
Location in Application of NSHC | Section 3.1 (p. 6) of Enclosure A.
Brief Description of Amendments | The proposed amendment would modify the technical specifications by relocating specific surveillance frequencies to a licensee-controlled program. The proposed changes are based on the NRC-approved Technical Specification Task Force (TSTF) traveler TSTF-425, Revision 3, “Relocate Surveillance Frequencies to Licensee Control—[Risk-Informed TSTF] RITSTF Initiative 5b” (ADAMS Package Accession No. ML090850642).
Proposed Determination | NSHC.
Name of Attorney for Licensee, Mailing Address | David W. Jenkins, FirstEnergy Nuclear Operating Company, FirstEnergy Corporation, 76 South Main Street, Akron, OH 44308.
Docket Nos. | 50-346.
NRC Project Manager, Telephone Number | Blake Purnell, 301-415-1380.
NextEra Energy Seabrook, LLC; Seabrook Station, Unit No. 1; Rockingham County, NH
Application Date | November 1, 2019.
ADAMS Accession No. | ML19310D804.
Location in Application of NSHC | Pages 95, 96, 97, and 98 of Enclosure.
Brief Description of Amendments | The proposed amendment would revise the technical specification (TS) requirement for the reactor trip system instrumentation and engineered safety features actuation system instrumentation to implement the allowed outage times (AOTs) and bypass test times justified in WCAP-14333-P-A, “Probabilistic Risk Analysis of the RPS and ESFAS Test Times and Completion Times,” and WCAP-15376-P-A, “Risk-Informed Assessment of the RTS and ESFAS Surveillance Test Intervals and Reactor Trip Breaker Test and Completion Times.” The proposed amendment would incorporate changes contained in Technical Specifications Task Force (TSTF) Standard Technical Specifications Change Traveler TSTF-411, “Surveillance Test Interval Extensions for Components of the Reactor Protection System (WCAP-15376),” and TSTF-418, “RPS and ESFAS Test Times and Completion Times (WCAP-14333).”
Proposed Determination | NSHC.
Name of Attorney for Licensee, Mailing Address | Debbie Hendell, Managing Attorney—Nuclear, Florida Power & Light Company, 700 Universe Blvd., MS LAW/JB, Juno Beach, FL 33408-0420.
Docket Nos. | 50-443.
NRC Project Manager, Telephone Number | Justin Poole, 301-415-2048.
Pacific Gas and Electric Company; Diablo Canyon Power Plant, Units 1 and 2; San Luis Obispo County, CA
Application Date | December 5, 2019.
ADAMS Accession No. | ML19339F388.
Location in Application of NSHC | Section 4.3 (page 6) of the Enclosure.
Brief Description of Amendments | The proposed amendments would relocate Diablo Canyon Nuclear Power Plant Technical Specification 5.3, “Unit Staff Qualifications,” to the Updated Final Safety Analysis Report. The change is consistent with the guidance in NRC Administrative Letter 95-06, “Relocation of Technical Specification Administrative Controls Related to Quality Assurance” (ADAMS Accession No. ML031110271).
Proposed Determination | NSHC.
Name of Attorney for Licensee, Mailing Address | Jennifer Post, Esq., Pacific Gas & Electric Co., 77 Beale Street, Room 3065, Mail Code B30A, San Francisco, CA 94105.
Docket Nos. | 50-275, 50-323.
NRC Project Manager, Telephone Number | Balwant Singal, 301-415-3016.
PSEG Nuclear LLC; Hope Creek Generating Station; Salem County, NJ
Application Date | November 25, 2019.
ADAMS Accession No. | ML19330C961.
Location in Application of NSHC | Page 22 and Page 23 of Enclosure 1.
Brief Description of Amendments | The proposed amendment would modify the Hope Creek Generating Station licensing basis by the addition of a license condition to allow for the implementation of the provisions of 10 CFR 50.69, “Risk-Informed Categorization and Treatment of Structures, Systems and Components for Nuclear Power Reactors.” The provisions of 10 CFR 50.69 allow adjustment of the scope of equipment subject to special treatment controls (e.g., quality assurance, testing, inspection, condition monitoring, assessment, and evaluation).
Proposed Determination | NSHC.
Name of Attorney for Licensee, Mailing Address | Steven Fleischer, PSEG Services Corporation, 80 Park Plaza, T-5, Newark, NJ 07102.
Docket Nos. | 50-354.
NRC Project Manager, Telephone Number | James Kim, 301-415-4125.
Southern Nuclear Operating Company, Inc.; Joseph M. Farley Nuclear Plant, Units 1 and 2; Houston County, AL, Southern Nuclear Operating Company, Inc.; Vogtle Electric Generating Plant, Units 1 and 2; Burke County, GA
Application Date | December 10, 2019.
ADAMS Accession No. | ML19344B804.
Location in Application of NSHC | Pages E-1 and E-2 (Section 3.1) of Enclosure 1.
Brief Description of Amendments | Southern Nuclear Operating Company (SNC, the licensee) submitted a request for amendments to the Technical Specifications (TS) for Joseph M. Farley Nuclear Plant (FNP), Units 1 and 2; and Vogtle Electric Generating Plant (VEGP), Units 1 and 2. SNC requests to adopt Technical Specifications Task Force (TSTF)-569, “Revise Response Time Testing Definition.” The proposed amendments would revise the TS definitions for Engineered Safety Feature Response Time and Reactor Trip System Response Time.
Proposed Determination | NSHC.
Name of Attorney for Licensee, Mailing Address | Millicent Ronnlund, Vice President and General Counsel, Southern Nuclear Operating Co., Inc., P.O. Box 1295, Birmingham, AL 35201-1295.
Docket Nos. | 50-348, 50-368, 50-424, 50-425.
NRC Project Manager, Telephone Number | John Lamb, 301-415-3100.
Southern Nuclear Operating Company, Inc.; Joseph M. Farley Nuclear Plant, Units 1 and 2; Houston County, AL, Southern Nuclear Operating Company, Inc.; Vogtle Electric Generating Plant, Units 1 and 2; Burke County, GA
Application Date | December 11, 2019.
ADAMS Accession No. | ML19345E724.
Location in Application of NSHC | Pages E-2 and E-3 (Section 3.1) of Enclosure 1.
Brief Description of Amendments | The proposed amendments would modify Farley and Vogtle Technical Specifications (TS) by removing the specific isolation time for the isolation valves from the associated standard TSs surveillance requirements (SRs). The changes are consistent with the NRC approved Technical Specifications Task Force (TSTF)-491, Revision 2. The availability of TSTF-491 was published in the Federal Register on December 29, 2006, as part of the consolidated line item improvement process.
Proposed Determination | NSHC.
Name of Attorney for Licensee, Mailing Address | Millicent Ronnlund, Vice President and General Counsel, Southern Nuclear Operating Co., Inc., P.O. Box 1295, Birmingham, AL 35201-1295.
Docket Nos. | 50-348, 50-364, 50-424, 50-425.
NRC Project Manager, Telephone Number | John Lamb, 301-415-3100.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action, see (1) the applications for amendment, (2) the amendment, and (3) the Commission's related letter, Safety Evaluation, and/or Environmental Assessment as indicated. All of these items can be accessed as described in the “Obtaining Information and Submitting Comments” section of this document.

Duke Energy Progress, LLC; Brunswick Steam Electric Plant, Units 1 and 2; Brunswick County, NC
Date Issued | January 8, 2020.
ADAMS Accession No. | ML19316B057.
Amendment Nos. | 297 (Unit 1) and 325 (Unit 2).
Brief Description of Amendments | The amendments modified Technical Specification (TS) 3.4.3, “Safety/Relief Valves (SRVs),” Surveillance Requirement (SR) 3.4.3.2 and TS 3.5.1, “ECCS [Emergency Core Cooling System]—Operating,” SR 3.5.1.11. The amendments replaced the current requirement in these TS SRs to verify the SRVs open when manually actuated with an alternate requirement that verifies that the SRVs are capable of being opened.
Docket Nos. | 50-324, 50-325.
Entergy Louisiana, LLC and Entergy Operations, Inc.; River Bend Station, Unit 1; West Feliciana Parish, LA
Date Issued | December 31, 2019.
ADAMS Accession No. | ML19357A009.
Amendment No. | 201.
Brief Description of Amendment | The amendment revised the technical specifications to allow use of neutron absorbing inserts in the spent fuel pool storage racks for the purpose of criticality control in the spent fuel pool.
Docket No. | 50-458.
Entergy Operations, Inc., System Energy Resources, Inc., Cooperative Energy, A Mississippi Electric Cooperative, and Entergy Mississippi, LLC; Grand Gulf Nuclear Station, Unit 1; Claiborne County, MS
Date Issued | January 6, 2020.
ADAMS Accession No. | ML19339D187.
Amendment Nos. | 223.
Brief Description of Amendments | The amendment revised Technical Specification (TS) Table 3.3.1.1-1, “Reactor Protection System Instrumentation,” Function 9, “Turbine Stop Valve Closure, Trip Oil Pressure—Low,” and Function 10, “Turbine Control Valve Fast Closure, Trip Oil Pressure—Low,” and TS 3.3.4.1, “End of Cycle Recirculation Pump Trip (EOC-RPT) Instrumentation,” Surveillance Requirement (SR) 3.3.4.1.2 and SR 3.3.4.1.3. The change revised the Allowable Value for the Turbine Stop Valve Closure Trip Oil Pressure Function and Turbine Control Valve Fast Closure Trip Oil Pressure Function. Additionally, the amendment added new Notes to assess channel performance during testing that verify instrument channel setting values established by the Entergy setpoint methodology.
Docket Nos. | 50-146.
Florida Power & Light Company; Turkey Point Nuclear Generating Unit Nos. 3. and 4; Miami-Dade County, FL
Date Issued | December 17, 2019.
ADAMS Accession No. | ML19266A585.
Amendment Nos. | 289 (Unit 3) and 283 (Unit 4).
Brief Description of Amendments | The amendments revised certain Technical Specifications for shared equipment when one unit is defueled and also remove a footnote related to Technical Specification 4.04.
Docket No. | 50-250, 50-251.
Holtec Pilgrim, LLC and Holtec Decommissioning International, LLC, Pilgrim Nuclear Power Station, Plymouth County, Massachusetts
Date Issued | January 2, 2020.
ADAMS Accession No. | ML19274C674.
Amendment Nos. | 251.
Brief Description of Amendments | The amendment revised the site emergency plan and emergency action level scheme for the permanently shutdown and defueled condition.
Docket Nos. | 50-293.
Holtec Pilgrim, LLC and Holtec Decommissioning International, LLC, Pilgrim Nuclear Power Station, Plymouth County, Massachusetts
Date Issued | January 2, 2020.
ADAMS Accession No. | ML19276C420.
Amendment Nos. | 252.
Brief Description of Amendments | The amendment removed the Pilgrim Cyber Security Plan from Pilgrim License Condition 3.G.
Docket Nos. | 50-293.
Indiana Michigan Power Company; Donald C. Cook Nuclear Plant, Units 1 and 2; Berrien County, MI
Date Issued | December 31, 2019.
ADAMS Accession No. | ML19304B672.
Amendment Nos. | 348 (Unit 1) and 329 (Unit 2).
Brief Description of Amendments | The amendments revised the technical specifications (TSs) to address an issue identified in Westinghouse Nuclear Safety Advisory Letter (NSAL) NSAL-15-1, Revision 0, by expanding the criteria within TS 3.2.1 surveillance requirements which apply an appropriate penalty factor to measured transient FQ(Z).
Docket Nos. | 50-315, 50-316.
NextEra Energy Duane Arnold, LLC; Duane Arnold Energy Center; Linn County, IA
Date Issued | January 2, 2020.
ADAMS Accession No. | ML19310C204.
Amendment Nos. | 309.
Brief Description of Amendments | The amendment revised certain staffing and training requirements, reports, programs, and editorial changes in the Technical Specification Section 1.1, “Definitions,” and Section 5.0, “Administrative Controls,” that will no longer be applicable once Duane Arnold Energy Center is permanently defueled.
Docket Nos. | 50-245, 50-336, 50-423, 50-338, 50-339, 50-280, 50-281.
Pacific Gas and Electric Company; Diablo Canyon Power Plant, Units 1 and 2; San Luis Obispo County, CA
Date Issued | January 9, 2020.
ADAMS Accession No. | ML19316A109.
Amendment Nos. | Unit 1—234; Unit 2—236.
Brief Description of Amendments | The amendments revised Technical Specification 5.6.5b, “Core Operating Limits Report (COLR),” for Full Spectrum Loss-of-Coolant Accident Methodology.
Docket Nos. | 50-275, 50-323.
Southern Nuclear Operating Company, Inc.; Vogtle Electric Generating Plant, Units 3 and 4; Burke County, GA
Date Issued | January 2, 2020.
ADAMS Accession No. | ML19339H089.
Amendment Nos. | Unit 1—171; Unit 2—169.
Brief Description of Amendments | Specifically, the amendments authorize changes to eliminate the performance of the Pressurizer Surge Line Stratification Evaluation first plant only test during the hot functional testing and first operating cycle by revising Combined License COL Condition 2.D.(2)(a)1 and Updated Final Safety Analysis Report, UFSAR Subsections 14.2.5, 14.2.9.1.7, and 14.2.9.2.22.
Docket Nos. | 52-026, 52-025.
Wolf Creek Nuclear Operating Corporation; Wolf Creek Generating Station, Unit 1; Coffey County, KS
Date Issued | January 6, 2020.
ADAMS Accession No. | ML19311C643.
Amendment Nos. | 223.
Brief Description of Amendments | The amendment revised the Wolf Creek Generating Station, Unit 1 Technical Specification 3.6.3, “Containment Isolation Valves,” and Surveillance Requirement 3.6.3.1 to remove use of a blind flange.
Docket Nos. | 50-482.

IV. Previously Published Notice of Consideration of Issuance of Amendments to Facility Operating Licenses and Combined Licenses, Proposed No Significant Hazards Consideration Determination, and Opportunity for a Hearing

The following notices were previously published as separate individual notices. The notice content was the same as above. They were published as individual notices either because time did not allow the commission to wait for this biweekly notice or because the action involved exigent circumstances. They are repeated here because the biweekly notice lists all amendments issued or proposed to be issued involving no significant hazards consideration.

For details, including the applicable notice period, see the individual notice in the Federal Register on the day and page cited.

Arizona Public Service Company, et al.; Palo Verde Nuclear Generating Station, Units 1, 2, and 3; Maricopa County, AZ
Application Date | December 26, 2019.
ADAMS Accession No. | ML19360A155.
Brief Description of Amendment | The proposed amendments would extend the implementation date for License Amendment Nos. 209, 209, and 209 for Palo Verde Nuclear Generating Station, Units 1, 2, and 3, respectively (ADAMS Accession No. ML19085A525), from February 23, 2020, to August 31, 2020. License Amendment Nos. 209, 209, and 209, which were issued on May 29, 2019, approved the risk-informed completion times in accordance with Nuclear Energy Institute (NEI) Topical Report NEI 06-09, Revision 0-A, “Risk-Informed Technical Specification Initiative 4b, Risk-Managed Technical Specifications (RMTS) Guidelines.”
Date & Cite of Federal Register Individual Notice | January 8, 2020 (85 FR 936).
Expiration Dates for Public Comments & Hearing Requests | February 7, 2020 (public comments); March 9, 2020 (hearing requests).
Docket Nos. | 50-528, 50-529, 50-530.

Dated at Rockville, Maryland, this 17th day of January 2020.
For the Nuclear Regulatory Commission.
Craig G. Erlanger,
Director, Division of Operating Reactor Licensing, Office of Nuclear Reactor Regulation.

[FR Doc. 2020-01136 Filed 1-27-20; 8:45 am]

BILLING CODE 7590-01-P